DEPARTMENT OF COMMERCE

International Trade Administration

[A-580-874]

Certain Steel Nails From the Republic of Korea: Final Results of Antidumping Duty Administrative Review; 2017-2018

AGENCY: Enforcement and Compliance, International Trade Administration, Department of Commerce.

SUMMARY: The Department of Commerce (Commerce) determines that Daejin Steel Company (Daejin), Je-il Wire Production Co., Ltd. (Je-il), Koram Inc. (Koram), and Korea Wire Co. Ltd. (Kowire) made sales of certain steel nails (steel nails) from the Republic of Korea (Korea) at less than normal value during the period of review (POR), July 1, 2017 through June 30, 2018.

DATES: Applicable October 22, 2019.

FOR FURTHER INFORMATION CONTACT: Ariela Garvett (Daejin), Lilit Astvatsatrian (Je-il and Koram), or Maliha Khan (Kowire), AD/CVD Operations, Office IV, Enforcement and Compliance, International Trade Administration, U.S. Department of Commerce, 1401 Constitution Avenue NW, Washington, DC 20230; telephone: (202) 482-3609, (202) 482-6412, or (202) 482-0895, respectively.

SUPPLEMENTARY INFORMATION:

Background

On June 18, 2019, Commerce published the Preliminary Results of the 2017-2018 antidumping duty administrative review of steel nails from Korea.¹ On July 18, 2019, Daejin and Mid Continent Steel & Wire, Inc. (the petitioner) submitted case briefs.² On July 26, 2019, Daejin, Koram, and the petitioner submitted rebuttal briefs.³

¹ See Certain Steel Nails from the Republic of Korea: Preliminary Results of Antidumping Duty Administrative Review and Partial Rescission of Antidumping Duty Administrative Review; 2017-2018, 84 FR 28278 (June 18, 2019) and accompanying Preliminary Decision Memorandum (Preliminary Results).

² See Daejin's Letter, “Administrative Review of the Antidumping Order on Certain Steels Nails from Korea—Redacted Case Brief,” dated September 24, 2019; see also Petitioner's Letter, “Certain Steel Nails from Korea: Case Brief on Daejin Steel Company and Koram Inc.,” dated July 18, 2019.

³ See Daejin's Letter, “Administrative Review on of the Antidumping Order on Certain Steel Nails from Korea—Rebuttal Brief of Daejin Steel Company,” dated July 26, 2019; see also Koram's Letter, “Certain Steel Nails from the Republic of Korea: Rebuttal Brief,” dated July 26, 2019; and Petitioner's Letter, “Certain Steel Nails from Korea: Rebuttal Brief on Daejin Steel Company,” dated July 26, 2019.

Scope of the Order

The products covered by this order are nails having a nominal shaft length not exceeding 12 inches.⁴ Merchandise covered by the order is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Nails subject to this order also may be classified under HTSUS subheadings 7907.00.60.00, 8206.00.00.00 or other HTSUS subheadings. While the HTSUS subheadings are provided for convenience and customs purposes, the written description of the scope of this order is dispositive. For a complete description of the scope of the order, see the Issues and Decision Memorandum.⁵

⁴ The shaft length of certain steel nails with flat heads or parallel shoulders under the head shall be measured from under the head or shoulder to the tip of the point. The shaft length of all other certain steel nails shall be measured overall.

⁵ See Memorandum, “Issues and Decision Memorandum for Final Results of the 2017-2018 Administrative Review of the Antidumping Duty Order on Certain Steel Nails from the Republic of Korea,” dated concurrently with this notice.

Analysis of Comments Received

All issues raised in the case and rebuttal briefs by parties to this administrative review are addressed in the IDM, which is hereby adopted by this notice. A list of the issues raised is attached to this notice as an Appendix. The IDM is a public document and is on file electronically via Enforcement and Compliance's Antidumping and Countervailing Duty Centralized Electronic Service System (ACCESS). ACCESS is available to registered users at https://access.trade.gov and in the Central Records Unit (CRU), Room B8024 of the main Commerce building. In addition, a complete version of the IDM can be accessed directly at http://enforcement.trade.gov/frn/index.html. The signed Issues and Decision Memorandum and the electronic version of the Issues and Decision Memorandum are identical in content.

Changes Since the Preliminary Results

Based on our review of the record and comments received from interested parties, we made no revisions to the preliminary margin calculations for the mandatory respondents.⁶

⁶ See Memorandum, “Certain Steel Nails from the Republic of Korea: Final Results Analysis Memorandum for Daejin Steel Company,” dated October 16, 2019; see also Memoranda, “Certain Steel Nails from the Republic of Korea: Final Results Analysis Memorandum for Je-il Wire Production Co., Ltd.,” dated October 16, 2019; “Certain Steel Nails from the Republic of Korea: Final Results Analysis Memorandum for Koram Inc.,” dated October 16, 2019; and “Certain Steel Nails from the Republic of Korea: Final Results Analysis Memorandum for Korea Wire Co., Ltd.,” dated October 16, 2019.

Final Results of the Administrative Review

We have determined the following weighted-average dumping margins to the firms listed below for the period July 1, 2017 through June 30, 2018:

Exporter-producer | Weighted- average dumping margin (percent)
Daejin Steel Company | 5.43
Je-il Wire Production Co., Ltd | 6.06
Koram Inc | 7.34
Korea Wire Co., Ltd | 5.47

Assessment Rates

Pursuant to section 751(a)(2)(A) of the Tariff Act of 1930, as amended (the Act), and 19 CFR 351.212(b)(1), Commerce will determine, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

For entries of subject merchandise during the POR produced by each respondent for which it did not know its merchandise was destined for the United States, we will instruct CBP to liquidate unreviewed entries at the all-others rate if there is no rate for the intermediate company(ies) involved in the transaction. We intend to issue liquidation instructions to CBP 15 days after publication of this notice.

Cash Deposit Requirements

The following cash deposit requirements will be effective upon publication of the notice of final results of administrative review for all shipments of subject merchandise entered, or withdrawn from warehouse, for consumption on or after the date of publication, as provided by section 751(a)(2) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, then the cash deposit rate will be the rate established for the most recently completed segment of this proceeding for the producer of the subject merchandise; and (4) the cash deposit rate for all other producers or exporters will continue to be 11.80 percent, the all-others rate established in the investigation.⁷ These cash deposit requirements, when imposed, shall remain in effect until further notice.

⁷ See Certain Steel Nails from the Republic of Korea: Final Determination of Sales at Less Than Fair Value, 80 FR 28955 (May 20, 2015).

Notification to Importers

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Notification to Interested Parties

This notice also serves as a reminder to parties subject to administrative protective orders (APO) of their responsibility concerning the return or destruction of proprietary information disclosed under APO in accordance with 19 CFR 351.305(a)(3). Timely written notification of the return or destruction of APO materials, or conversion to judicial protective order, is hereby requested. Failure to comply with the regulations and the terms of an APO is a sanctionable violation.

We are issuing and publishing this notice in accordance with sections 751(a)(1) and 777(i) of the Act and 19 CFR 351.221(b)(5).

Dated: October 16, 2019.
Jeffrey I. Kessler,
Assistant Secretary For Enforcement and Compliance.

Appendix

List of Topics Discussed in the Issues and Decision Memorandum

I. Summary

II. Background

III. Scope of the Order

IV. Changes Since the Preliminary Results

V. Discussion of the Issues

VI. Recommendation

[FR Doc. 2019-22992 Filed 10-21-19; 8:45 am]

BILLING CODE 3510-DS-P